DEPARTMENT OF COMMERCE

National Oceanic and Atmospheric Administration

[RTID 0648-XC007]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Monkfish Committee to consider actions affecting New England fisheries in the exclusive economic zone (EEZ). Recommendations from this group will be brought to the full Council for formal consideration and action, if appropriate.

DATES: This meeting will be held on Thursday, May 26, 2022 at 10 a.m.

ADDRESSES: This meeting will be held at the Radisson Airport Hotel, 2081 Post Road, Warwick, RI 02886; telephone: (401) 739-3000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Monkfish Committee will meet to discuss the draft 2022 Monkfish Fishery Performance Report: Including recent fishery data and input by the Monkfish Advisory Panel on the current state of the fishery. They will discuss Framework Adjustment 13 to the Monkfish Fishery Management Plan: Develop alternatives for an action that is likely considering: 2023-25 monkfish fishery specifications, including Days-At-Sea allocations and possession limits, and other management measures (requiring 12‐inch minimum mesh size for monkfish gillnets, requiring use of the Vessel Monitoring System across the federal fishery, measures to reduce discards in the Southern Fishery Management Area). The Committee will discuss research priorities: 2022-26 NEFMC Research Priorities and Data Needs: Finalize recommended updates; 2023-24 Monkfish Research-Set-Aside Program: Recommend research. Other business will be discussed if necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

(Authority: 16 U.S.C. 1801 et seq.)

Dated: May 2, 2022.
Tracey L. Thompson,
Acting Deputy Director, Office of Sustainable Fisheries, National Marine Fisheries Service.

[FR Doc. 2022-09640 Filed 5-4-22; 8:45 am]

BILLING CODE 3510-22-P